DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, October 9, 2013, from 8:00 a.m. until 5:00 p.m. Eastern Time, Thursday, October 10, 2013, from 8:00 a.m. until 5:00 p.m. Eastern Time, and Friday, October 11, 2013, from 8:00 a.m. until 12:00 p.m. Eastern Time. All sessions will be open to the public.

DATES: The meeting will be held on Wednesday, October 9, 2013, from 8:00 a.m. until 5:00 p.m. Eastern Time, Thursday, October 10, 2013, from 8:00 a.m. until 5:00 p.m. Eastern Time, and Friday, October 11, 2013, from 8:00 a.m. until 12:00 p.m. Eastern Time.

ADDRESSES: The meeting will take place at the United States Access Board Conference Room, 1331 F Street NW., Suite 800, Washington, DC 20004.

FOR FURTHER INFORMATION CONTACT: Annie Sokol, Information Technology Laboratory, National Institute of Standards and Technology, 100 Bureau Drive, Stop 8930, Gaithersburg, MD 20899-8930, telephone: (301) 975-2006, or by email at: annie.sokol@nist.gov.

SUPPLEMENTARY INFORMATION: Pursuant to the Federal Advisory Committee Act, as amended, 5 U.S.C. App., notice is hereby given that the Information Security and Privacy Advisory Board (ISPAB) will meet Wednesday, October 9, 2013, from 8:00 a.m. until 5:00 p.m. Eastern Time, Thursday, October 10, 2013, from 8:00 a.m. until 5:00 p.m. Eastern Time, and Friday, October 11, 2013, from 8:00 a.m. until 12:00 p.m. Eastern Time. All sessions will be open to the public. The ISPAB is authorized by 15 U.S.C. 278g-4, as amended, and advises the Secretary of Commerce, the Director of the Office of Management and Budget, and the Director of NIST on information security and privacy issues pertaining to federal computer systems. Details regarding the ISPAB's activities are available at http://csrc.nist.gov/groups/SMA/ispab/index.html.

The agenda is expected to include the following items:

—Cybersecurity

• Executive Order 13636, Improving Critical Infrastructure Cybersecurity (78 FR 11737, February 19, 2013);

• Development of New Cybersecurity Framework;

• Request for Information (RFI)—Developing a Framework to Improve Critical Infrastructure Cybersecurity (78 FR 13024, February 26, 2013);

• Notice of Inquiry (NOI)—Incentives to Adopt Improved Cybersecurity Practices (78 FR 18954, March 28, 2013),

—Information Sharing Update—

• How to increase transparency and process,

• Threats environment and trends in information technology—cloud computing, mobility and communication

—Update on cybersecurity from the White House Cybersecurity Coordinator,

—Update on Legislative proposals relating to information security and privacy,

—Update on FISMA—transfer of operational responsibilities for DHS and OMB,

—Update on Circular No. A130, Memorandum No.4, Management of Federal Information Resources,

—Update on National Cyber Security Awareness Month,

—Update on Privacy and Civil Liberties Oversight Board (PCLOB), and

—Update on NIST Computer Security Division.

Note that agenda items may change without notice because of possible unexpected schedule conflicts of presenters. The final agenda will be posted on the Web site indicated above. Seating will be available for the public and media. No registration is required to attend this meeting.

Public Participation: The ISPAB agenda will include a period of time, not to exceed thirty minutes, for oral comments from the public (Friday, October 11, 2013, between 10:00 a.m. and 10:30 a.m.). Speakers will be selected on a first-come, first-served basis. Each speaker will be limited to five minutes. Questions from the public will not be considered during this period. Members of the public who are interested in speaking are requested to contact Annie Sokol at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Dated: August 28, 2013.
Willie E. May,
Associate Director for Laboratory Programs.

[FR Doc. 2013-21494 Filed 9-3-13; 8:45 am]

BILLING CODE 3510-13-P